DEPARTMENT OF DEFENSE

Department of the Navy

Notice of Public Hearings for the Virginia Capes Range Complex Draft Environmental Impact Statement/Overseas Environmental Impact Statement

AGENCY: Department of the Navy, DoD.

ACTION: Notice.

SUMMARY: Pursuant to section 102(2)(c) of the National Environmental Policy Act (NEPA) of 1969 (42 United States Code [U.S.C.] 4321); the Council of Environmental Quality (CEQ) Regulations for implementing the procedural provisions of NEPA (Title 40 Code of Federal Regulations [CFR] 1500-1508); Department of the Navy Procedures for Implementing NEPA (32 CFR 775); Executive Order (EO) 12114, Environmental Effects Abroad of Major Federal Actions; and Department of Defense (DoD) regulations implementing EO 12114 (32 CFR 187) the Department of the Navy (Navy) has prepared and filed with the U.S. Environmental Protection Agency a Draft Environmental Impact Statement/Overseas Environmental Impact Statement (EIS/OEIS) on June 16, 2008. The National Marine Fisheries Service (NMFS) is a Cooperating Agency for the EIS/OEIS.

The EIS/OEIS evaluates the potential environmental impacts over a 10-year planning horizon associated with Navy Atlantic Fleet training; research, development, testing, and evaluation (RDT&E) activities; and associated range capabilities enhancements (including infrastructure improvements) within the existing Virginia Capes (VACAPES) Range Complex Operating Area (OPAREA). The components of the VACAPES Range Complex include 28,672 square nautical miles (nm²) of special use area (SUA) warning area; 27,661 nm² of offshore surface and subsurface OPAREA; and 18,092 nm² of deep ocean area greater than 100 fathoms (600 feet).

The geographic scope of the EIS/OEIS includes the airspace, seaspace, and undersea space of the VACAPES Range Complex. This area is referred to as the VACAPES Study Area. The VACAPES Study Area does not include any dry land. However, it does include the area from the mean high tide line east (seaward) to the 3nm boundary of the states of Delaware, Maryland, Virginia, and North Carolina. This 3-nm state boundary also serves as the western boundary of the VACAPES OPAREA. The VACAPES Study Area also includes 420 nm² of the lower Chesapeake Bay. A Notice of Intent (NOI) for the EIS/OEIS was published in the Federal Register on December 8, 2006 (Federal Register Volume 71, No. 236, pp 71143-71145). A revised NOI was issued in the Federal Register (Volume 72, No. 171, pp 50940-50941) on September 5, 2007 when training areas in the southern Chesapeake Bay were identified for analysis.

The Navy will conduct four public hearings to receive oral and written comments on the Draft EIS/OEIS. Federal agencies, state agencies, and local agencies and interested individuals are invited to be present or represented at the public hearings. This notice announces the dates and locations of the public hearings for this Draft EIS/OEIS.

An open house session will precede the scheduled public hearing at each of the locations listed below and will allow individuals to review the information presented in the VACAPES Range Complex Draft EIS/OEIS. Navy representatives will be available during the open house sessions to clarify information related to the Draft EIS/OEIS.

Dates and Addresses: All meetings will start with an open house session from 5 p.m. to 7 p.m. A formal presentation and public comment period will be held from 7 p.m. to 9 p.m. Public hearings will be held on the following dates and at the following locations: July 14, 2008 at the Princess Royale Oceanfront Hotel, 9100 Coastal Hwy., Ocean City, MD; July 15, 2008 at the Chincoteague Center, 6155 Community Dr., Chincoteague, VA; July 16, 2008 at the Virginia Beach Resort & Conference Ctr., 2800 Shore Dr., Virginia Beach, VA; and July 17, 2008 at the Hilton Garden Inn, 5353 N. Va. Dare Trail, Kitty Hawk, NC.

FOR FURTHER INFORMATION CONTACT: Naval Facilities Engineering Command, Atlantic, Attention, EV22ES (VACAPES EIS/OEIS PM), 6506 Hampton Boulevard, Norfolk, Virginia 23508-1278; facsimile: 757-322-4894 or http://www.vacapesrangecomplexeis.com.

SUPPLEMENTARY INFORMATION: The Navy has identified the need to support and conduct current and emerging training and RDT&E operations in the VACAPES Range Complex. The proposed action does not indicate major changes to VACAPES Range Complex facilities, operations, training, or RDT&E capacities over the 10-year planning period. Rather, the proposed action would result in relatively small-scale but critical enhancements to the VACAPES Range Complex that are necessary if the Navy is to maintain a state of military readiness commensurate with its national defense mission.

The EIS/OEIS addresses the training strategies described in the Fleet Readiness Training Plan (FRTP) that implement the Fleet Response Plan, which ensures continuous availability of agile, flexible, trained, and ready surge-capable (rapid response) forces. The recommended range enhancements that have the potential to impact the environment, as well as current and future training and testing operations that have the potential to impact the environment, are the primary focus of the EIS/OEIS.

The purpose for the proposed action is to:

• Achieve and maintain Fleet readiness using the VACAPES Range Complex to support and conduct current, emerging, and future training operations and RDT&E operations;

• Expand warfare missions supported by the VACAPES Range Complex; and

• Upgrade and modernize existing range capabilities to enhance and sustain Navy training and RDT&E.

The need for the proposed action is to provide range capabilities for training and equipping combat-capable naval forces ready to deploy worldwide. In this regard, the VACAPES Range Complex furthers the Navy's execution of its congressionally mandated roles and responsibilities under Title 10 U.S.C. 5062. To implement this Congressional mandate, the Navy needs to:

• Maintain current levels of military readiness by training in the VACAPES Range Complex;

• Accommodate future increases in operational training tempo in the VACAPES Range Complex and support the rapid deployment of naval units or strike groups;

• Achieve and sustain readiness of ships and squadrons so the Navy can quickly surge significant combat power in the event of a national crisis or contingency operation, and consistent with the FRTP;

• Support the acquisition and implementation into the Fleet of advanced military technology. The VACAPES Range Complex must adequately support the testing and training needed for new platforms (aircraft and weapons systems); and

• Maintain the long-term viability of the VACAPES Range Complex while protecting human health and the environment, and enhancing the quality and communication capability and safety of the range complex.

Support to current, emerging, and future training and RDT&E operations, including implementation of range enhancements, entails the actions evaluated in the EIS/OEIS. These potentially include:

• Increase use of contractor-operated small aircraft that simulate enemy aircraft during training (Commercial Air Services Support for Fleet Opposition Forces and Electronic Warfare Threat Training);

• Increase anti-piracy and maritime interdiction training (Anti-terrorism Surface Strike Group Training);

• Support MH-60R/S helicopter warfare mission areas, and Multi-Mission Maritime Aircraft training operations; and

• Conduct mine warfare training using a temporary mine training area.

The proposed action is to support and conduct current and emerging training and RDT&E operations in the VACAPES Range Complex. To achieve this, the Navy proposes to:

• Maintain training and RDT&E operations at current levels if the No Action Alternative is selected.

If either Alternative 1 or Alternative 2 is selected, then:

• Increase or modify training and RDT&E operations from current levels as necessary in support of the FRTP.

• Accommodate mission requirements associated with force structure changes, including those resulting from the introduction of new platforms (aircraft, and weapons systems).

• Implement enhanced range complex capabilities.

The decision to be made by the Assistant Secretary of the Navy (Installations & Environment) is to determine which alternative analyzed in the EIS/OEIS satisfies both the level and mix of training to be conducted and the range capabilities enhancements to be made within the VACAPES Range Complex that best meet the needs of the Navy given that all reasonably foreseeable environmental impacts have been considered.

Three alternatives were evaluated in the EIS/OEIS to ensure they met the purpose and need, giving due consideration to range complex attributes such as: the capability to support current and emerging Fleet tactical training and RDT&E requirements; the capability to support realistic, essential training at the level and frequency sufficient to support the FRTP; and the capability to support training requirements while following Navy Personnel Tempo of Operations guidelines. These alternatives include:

1. The No Action Alternative—Current Operations to include surge consistent with the FRTP;

2. Alternative 1—No Action Alternative plus: increase Operational Training, Expand Warfare Missions, Accommodate Force Structure Changes (includes changing weapon systems and platforms and homebasing new aircraft and ships), and implement enhancements, to the minimal extent possible to meet the components of the proposed action. This alternative is composed of all operations currently conducted (No Action Alternative) with modifications to current training or introduction of new training. These would include: (a) Using more commercial aircraft to serve as oppositional forces rather than using Navy aircraft for Air-to-Air Missile Exercise, Surface-to-Air Gunnery Exercises, Air Intercept Control Exercises, and Detect-to-Engage Exercises; (b) the incorporation of anti-terrorism training into existing training events; (c) adjusting training levels to ensure that deployment can be stepped up quickly and at multiple locations in response to world events; and (d) conducting new or modified training associated with the introduction of the new MH-60 helicopter, and new organic mine countermeasure systems; and

3. Alternative 2 (Preferred Alternative)—Alternative 1 plus: enhanced mine warfare training capabilities, a reduction of live bombing exercises, and implementation of additional enhancements to enable the range complex to meet future requirements.

Three alternatives were considered but eliminated from further consideration. These include:

1. Alternative Range Complex Locations—No single range complex on the East Coast can accommodate the entire spectrum of Navy and Marine Corps training and testing. To maintain a high level of combat readiness for naval forces at best value to the U.S. taxpayer, the Navy and Marine Corps homeported their forces in multiple concentration areas rather than a single area, in part to ensure the surrounding training and testing areas could support their specific needs. The result is a system of range complexes, each optimized to support the limited set of warfare areas that predominate in that locale. The VACAPES Range Complex possesses a number of historical and natural features that make it an indispensable component of the Navy's East Coast system of ranges. The VACAPES Range Complex is a vital component of the Atlantic Fleet system of range complexes, necessary and critical to ensure that naval forces are prepared and certified ready for overseas deployment and combat operations. Other locations do not provide reasonable alternatives for required training purposes/activities described above, and as a result, alternative training locations were eliminated from further consideration.

2. Conduct Simulated Training Only—Under this alternative, only simulated training would be conducted using computer models and classroom training. While computer simulation and classroom training are currently used by the Navy and effective training tools, they cannot exclusively replace live training because they do not replicate the atmosphere or experience that live training provides. Simulation cannot replicate the environment that is provided during coordinated training and major exercises, where multiple ships, submarines and aircraft, and hundreds or thousands of men and women are participating in training activities in a coordinated fashion to accomplish a common military objective. Because of the need to train as we fight, this alternative would fail to meet the purpose and need of the proposed action in that it would not sufficiently prepare our naval forces for combat. Therefore, this alternative is not evaluated in the EIS/OEIS.

3. Practice Ammunition Use—An alternative that would rely entirely on inert, practice ammunition use within the VACAPES Range Complex would not achieve the necessary levels of proficiency in firing weapons in a high stress and realistic environment. Inert, practice ammunition is utilized throughout the VACAPES Range Complex, and provides opportunity to implement a successful, integrated training program while reducing the risk and expense typically associated with live ammunition. As such, practice ammunition is already utilized extensively to enhance combat performance in the Navy's training program. However, while it is an essential component of training, practice ammunition cannot be used exclusively to train safely in an inherently unsafe combat environment. Consequently, this alternative fails to meet the purpose and need of the proposed action. Therefore, this alternative was not carried forward for analysis.

Nineteen resources and issues were described and analyzed in the EIS/OEIS. These include but are not limited to water resources, air quality, marine communities, marine mammals, sea turtles, fish and essential fish habitat, seabirds and migratory birds, cultural resources, regional economy, and public health and safety. The Navy used subject matter experts, public and agency scoping comments, previous environmental analyses, previous agency consultations, laws, regulations, Executive Orders and resource-specific information in a screening process to identify aspects of the proposed action that could act as stressors to resources and issues evaluated in the EIS/OEIS.

The stressors considered for analysis of environmental consequences include but are not limited to vessel movements (disturbance and collisions), aircraft overflights (disturbance and strikes), non-explosive practice munitions, and underwater detonations and high explosive ordnance.

In accordance with 50 CFR 401.12 the Navy submitted a Biological Evaluation to assess the potential effects from the proposed action on marine resources and anadromous fish protected by the NMFS under the Endangered Species Act (ESA). In accordance with the Marine Mammal Protection Act MMPA (16 U.S.C. 1371[a][5]), the Navy submitted a request for Letter of Authorization to the NMFS for the incidental taking of marine mammals by the proposed action which was acknowledged by NMFS in a Notice of Receipt published in the Federal Register (Vol. 73, No. 72, pp 20032-20034) on April 14, 2008.

The Navy submitted a Consultation Package in accordance with legal requirements set forth under regulations implementing Section 7 of the ESA (50 CFR 402; 16 U.S.C 1536 (c)) for listed species under jurisdiction of the U.S. Fish and Wildlife Service. The analysis of environmental stressors indicated that implementation of the No Action Alternative, Alternative 1, or Alternative 2 would not result in unavoidable significant adverse effects to resources and issues analyzed.

The analysis of environmental stressors and alternatives indicated no significant impact to resources and issues in U.S. territorial waters; likewise, no significant harm in non-territorial waters would be expected. The VACAPES Draft EIS/OEIS was distributed to Federal, State, and local agencies, elected officials, and other interested individuals and organizations on June 27, 2008. The public comment period will end on August 11, 2008. Copies of the VACAPES Draft EIS/OEIS are available for public review at the following libraries: Ocean City Branch Library, 10003 Coastal Highway, Ocean City, MD; Rehoboth Beach Public Library, 226 Rehoboth Avenue Rehoboth Beach, DE; Wicomico Public Library, 122 South Division Street, Salisbury, MD; Island Library, 4077 Main Street, Chincoteague, VA; Central Library, 4100 Virginia Beach Blvd, Virginia Beach, VA; and Kill Devil Hills Branch Library, 400 S. Mustian St, Kill Devil Hills, NC.

The VACAPES Draft EIS/OEIS is also available for electronic public viewing at http://www.vacapesrangecomplexeis.com. A paper copy of the Executive Summary or a single CD with the VACAPES Draft EIS/OEIS will be made available upon written request by contacting Naval Facilities Engineering Command, Atlantic Division; Attention: Code EV22ES (VACAPES EIS/OEIS PM); 6506 Hampton Blvd; Norfolk, VA 23508-1278; facsimile: 757-322-4894. Federal, State, and local agencies and interested parties are invited to be present or represented at the public hearing. Written comments can also be submitted during the open house sessions preceding the public hearings. Oral statements will be heard and transcribed by a stenographer; however, to ensure the accuracy of the record, all statements should be submitted in writing. All statements, both oral and written, will become part of the public record on the Draft EIS/OEIS and will be responded to in the Final EIS/OEIS. Equal weight will be given to both oral and written statements.

In the interest of available time, and to ensure all who wish to give an oral statement have the opportunity to do so, each speaker's comments will be limited to three (3) minutes. If a long statement is to be presented, it should be summarized at the public hearing with the full text submitted either in writing at the hearing, or mailed or faxed to Naval Facilities Engineering Command, Atlantic Division; Attention: Code EV22ES (VACAPES EIS/OEIS PM); 6506 Hampton Blvd; Norfolk, VA 23508-1278; facsimile: 757-322-4894. In addition, comments may be submitted on-line at http://www.vacapesrangecomplexeis.com during the comment period. All written comments must be postmarked by August 11, 2008 to ensure they become part of the official record. All comments will be addressed in the Final EIS/OEIS.

Dated: June 18, 2008.
T.M. Cruz,
Lieutenant, Judge Advocate General's Corps, U.S. Navy, Federal Register Liaison Officer.

[FR Doc. E8-14539 Filed 6-26-08; 8:45 am]

BILLING CODE 3810-FF-P